DEPARTMENT OF COMMERCE

National Oceanic and Atmospheric Administration

50 CFR Part 635

RIN 0648-BC09

Atlantic Highly Migratory Species (HMS); 2006 Consolidated HMS Fishery Management Plan (FMP); Amendment 7

AGENCY: National Marine Fisheries Service (NMFS), National Oceanic and Atmospheric Administration (NOAA), Commerce.

ACTION: Announcement of location for installation of electronic monitoring equipment.

SUMMARY: NMFS is announcing that the final location for the May 2015 installations of electronic monitoring (EM) systems required by Amendment 7 will be Fairhaven, MA, in addition to the previously-announced Barnegat Light, NJ. NMFS is also informing vessel owners with Atlantic tunas permits that funding for such EM installation and training is now available on a `first come, first served' basis for a limited number of pelagic longline vessels that were not eligible for Individual Bluefin Quota (IBQ) based on criteria in Amendment 7 to the 2006 Consolidated HMS FMP (Amendment 7). Funding for EM installation and training originally was limited to the 135 vessels eligible for IBQ shares.

DATES: See SUPPLEMENTARY INFORMATION for installation dates, times, and locations.

ADDRESSES: Installation of EM systems and equipment during May 2015 is scheduled at the following ports: Fairhaven, MA, and Barnegat Light, NJ. See SUPPLEMENTARY INFORMATION for specific dates.

FOR FURTHER INFORMATION CONTACT: Thomas Warren or Brad McHale at 978-281-9260; or Craig Cockrell at 301-427-8503.

SUPPLEMENTARY INFORMATION: Atlantic tuna fisheries are managed under the dual authority of the Magnuson-Stevens Fishery Conservation and Management Act (Magnuson-Stevens Act) and the Atlantic Tunas Convention Act (ATCA). Under the Magnuson-Stevens Act, NMFS must manage fisheries to maintain optimum yield on a continuing basis while preventing overfishing. ATCA authorizes the Secretary of Commerce (Secretary) to promulgate regulations as may be necessary and appropriate to carry out recommendations of the International Commission for the Conservation of Atlantic Tunas (ICCAT). The authority to issue regulations under the Magnuson-Stevens Act and ATCA has been delegated from the Secretary to the Assistant Administrator for Fisheries, NMFS. Management of these species is described in the 2006 Consolidated HMS FMP, which is implemented by regulations at 50 CFR part 635. Amendment 7 to the 2006 Consolidated HMS FMP may be found online at: http://www.nmfs.noaa.gov/sfa/hms/documents/fmp/am7/index.html.

On December 2, 2014, NMFS published the final rule for Amendment 7 to the 2006 Consolidated HMS FMP to, among other things, take actions related to the operation and management of the Atlantic bluefin tuna fishery, including measures applicable to the pelagic longline fishery, such as establishing IBQs and expanding monitoring requirements, including electronic monitoring by camera (79 FR 71510). The regulations implementing the final rule require that an owner or operator of a commercial vessel permitted or required to be permitted in the Atlantic Tunas Longline category and that has pelagic longline gear on board have installed, operate, and maintain an EM system on the vessel. Although most Amendment 7 measures were effective as of January 1, 2015, EM installation must be completed by June 1, 2015, to fish with pelagic longline gear. To facilitate compliance with these requirements and ease any burden on vessel owners, NMFS identified funding for EM equipment, installation and training for the 135 vessels eligible for IBQ under Amendment 7 criteria. NMFS scheduled multiple dates and locations for installation and training on the operation of EM equipment during the months of January through May (79 FR 78310; December 30, 2014). The dates and locations were chosen to reduce the potential for interference with fishing trips and to minimize the distances vessels may have to travel. One of the two locations during the scheduled May time periods (May 11-17; and 19-25) was left undetermined to provide flexibility to consider status of installations from January to the present, and the location of vessels still requiring installation. Based on input from vessel owners, NMFS has determined that the final location will be Fairhaven, MA.

To encourage vessels to sign up for installation and determine how many of the eligible 135 vessels intended to have an EM system installed, NMFS notified the pelagic longline fleet and set an administrative deadline of April 20, 2015, for eligible vessels to sign up for installation. Based on the number of vessels that already installed EM systems or signed up for installation by the deadline, NMFS has determined that funds are available to pay for installation of EM equipment on a limited number of vessels with a valid Atlantic Tunas Longline permit that were not eligible for IBQ shares under Amendment 7 (“non-eligible vessels”). Funding for non-eligible vessels is not guaranteed and will be available on a `first come-first served' basis, as determined by the date scheduled and agreed upon by the vessel owner/operator and Saltwater, Inc. All vessel owners and/or operators must call Saltwater, Inc., the NMFS-approved contractor, at 800-770-3241, to schedule EM installation and training for their vessels at one of the ports specified in Table 1, and to discuss logistics (time, precise location, etc.) with the contractor. All vessel owners and/or operators must call at least a week in advance of the desired date of installation, but are encouraged to contact Saltwater Inc. as soon as possible.

If a vessel owner and/or operator of a pelagic longline vessel is not able to coordinate installation with the NMFS-approved contracter, Saltwater, Inc., on one of the dates and locations listed in Table 1, the vessel operator is advised to contact Saltwater, Inc., as soon as possible to determine whether another mutually-agreed upon location and date is possible for installation and training. NMFS cannot guarantee that an alternate date will be possible given the limited funding and time available to complete installation of and training on the operation of the EM equipment. Therefore, vessel owners and/or operators will be advised make a concerted effort to adhere to the EM installation schedule in Table 1.

Table 1—Dates and Locations of Remaining Pre-Scheduled Electronic Monitoring Installations
Date range (2015) | Name of port
May 11 through 17, and May 19 through 25 | Fairhaven, Massachusetts.
May 11 through 17, and May 19 through 25 | Barnegat Light, New Jersey.

Authority: 16 U.S.C. 971 et seq. and 1801 et seq.

Dated: May 1, 2015.
Emily H. Menashes,
Acting Director, Office of Sustainable Fisheries, National Marine Fisheries Service.

[FR Doc. 2015-10960 Filed 5-6-15; 8:45 am]

BILLING CODE 3510-22-P